SMALL BUSINESS ADMINISTRATION

Data Collection Available for Public Comments and Recommendations

AGENCY: Small Business Administration.

ACTION: 60 Day Notice and request for comments. 8(a) Business Development Program.

SUMMARY: In accordance with the Paperwork Reduction Act of 1995, this notice announces the Small Business Administration's intentions to request approval on a new and/or currently approved information collection.

DATES: Submit comments on or before February 10, 2012.

ADDRESSES: Send all comments regarding whether these information collections are necessary for the proper performance of the function of the agency, whether the burden estimates are accurate, and if there are ways to minimize the estimated burden and enhance the quality of the collections, to Joan Elliston, Program Analyst, Office of Business Development, Small Business Administration, 409 3rd Street, 8th Floor, Washington, DC 20416.

FOR FURTHER INFORMATION CONTACT: Joan Elliston, Program Analyst, (202) 205-7190 joan.elliston@sba.gov Curtis B. Rich, Management Analyst, (202) 205-7030 curtis.rich@sba.gov.

SUPPLEMENTARY INFORMATION: In accordance with Title 13 of the Code of Federal Regulations, Section 124.403, each 8(a) participant must annually review its business plan with its assigned business development specialist and modify the plan, as appropriate within 30 days after the close of each program year. The participant must also submit a statement describing its current contract performance capabilities as part of its updated business plan. SBA uses the information collected to access the participants financial condition and continued eligibility.

Title: “8(a) Annual Update”.

Description of Respondents: 8(a) Program Participants.

Form Number: 1450.

Annual Responses: 6,763.

Annual Burden: 13,526.

SUPPLEMENTARY INFORMATION: All 8(a) participants are required to provide semiannual information on any agents, representatives, attorneys, and accounts receiving compensation to assist in obtaining a Federal contract for the participant. The information addresses the amount of compensation received and description of the activities performed in return for such compensation. The information is used to ensure that participants do not engage in any improper or illegal activity in connection with obtaining a contract.

Title: “Representatives Used and Compensation Paid for Services in Connection with obtaining Federal Contracts”.

Description of Respondents: 8(a) Program Participants.

Form Number: 1790.

Annual Responses: 15,810.

Annual Burden: 3,953.

ADDRESSES: Send all comments regarding whether this information collection is necessary for the proper performance of the function of the agency, whether the burden estimates are accurate, and if there are ways to minimize the estimated burden and enhance the quality of the collection, to Edsel Brown, Assistant Administrator, Office of Technology, Small Business Administration, 409 3rd Street, 6th Floor, Washington, DC 20416.

FOR FURTHER INFORMATION CONTACT: Edsel Brown, Assistant Administrator, (202) 205-7343 edsel.brown@sba.gov Curtis B. Rich, Management Analyst, (202) 205-7030 curtis.rich@sba.gov.

SUPPLEMENTARY INFORMATION: The SBA needs this data to satisfy program requirements in the Small Business Act including new requirements established in the reauthorization legislation's, Public Law 106-554 and Public Law 107-50. This data will be used by SBA to maintain information about the SBIR and STTR awards issued through the two programs. The data will be provided by each SBIR/STTR participating agency based on information collected from program awardees. The data will be used to report annually to the Congress on awards issued. Further, the data will be used by Congress, GAO, SBA and participating agencies.

Title: “Small Business Innovation Research (SBIR) and Small Business Technology Transfer (STTR) TechNet Database”.

Description of Respondents: All Firms or Individuals applying for a Phase I or Phase II award from the SBIR or STTR programs.

Form Number: N/A.

Annual Responses: 37,000.

Annual Burden: 20,000.

ADDRESSES: Send all comments regarding whether this information collection is necessary for the proper performance of the function of the agency, whether the burden estimates are accurate, and if there are ways to minimize the estimated burden and enhance the quality of the collection, to Donald Romek, Division Manager, Denver Finance Center, Small Business Administration, 721 19th Street, 3rd Floor, Denver, CO 80202.

FOR FURTHER INFORMATION CONTACT: Donald Romek, Division Manager, (303) 844-3603 donald.romek@sba.gov Curtis B. Rich, Management Analyst, (202) 205-7030 curtis.rich@sba.gov.

SUPPLEMENTARY INFORMATION: SBA Form 172 is used by Lenders to report loan payment data to SBA on a monthly basis. the purpose of this reporting is to (1) Show the remittance due SBA on a loan serviced by participating lending institutions; (2) update the loan receivable balances.

Title: “Transaction Report on Loans Serviced by Lenders”.

Description of Respondents: Small Business Administration Participating Lenders.

Form Number: 172.

Annual Responses: 24,779.

Annual Burden: 4,130.

ADDRESSES: Send all comments regarding whether this information collection is necessary for the proper performance of the function of the agency, whether the burden estimates are accurate, and if there are ways to minimize the estimated burden and enhance the quality of the collection, to Rachel Newman-Karton, Program Analyst, Office of Small Business Development Centers, Small Business Administration, 409 3rd Street, 6th Floor, Washington, DC 20416.

FOR FURTHER INFORMATION CONTACT: Rachel Newman-Karton, Program Analyst, (202) 619-1816 Rachel.newman@sba.gov Curtis B. Rich, Management Analyst, (202) 205-7030 curtis.rich@sba.gov.

SUPPLEMENTARY INFORMATION: Each form is used to notify recipients of grant awards and cooperative agreement awards. Form 1222 is used also to document logistical and budgetary information gathered from the awardees application and proposal. Awardees/Respondents are universities, colleges, state and local government, for-profit and non-profit organizations. Form 1224 is used to certify the cost sharing by the recipient.

Title: “Notice of Award & Grant/Cooperative Agreement Cost Sharing Proposal”.

Description of Respondents: SBA Grant Applicants and Recipients.

Form Numbers: 1222, 1224.

Annual Responses: 477.

Annual Burden: 34,191.

ADDRESSES: Send all comments regarding whether this information collection is necessary for the proper performance of the function of the agency, whether the burden estimates are accurate, and if there are ways to minimize the estimated burden and enhance the quality of the collection, to Carol Fendler, System Accountant, Office of Investment, Small Business Administration, 409 3rd Street, 6th Floor, Washington, DC 20416.

FOR FURTHER INFORMATION CONTACT: Carol Fendler, System Accountant, (202) 205-7559 carol.fendler@sba.gov Curtis B. Rich, Management Analyst, (202) 205-7030 curtis.rich@sba.gov.

SUPPLEMENTARY INFORMATION: SBA Forms 856 and 856A are used by SBA examiners as part of their examination of licensed small business investment companies (SBICs). This information collection obtains representations from an SBIC's management regarding certain obligations, transactions and relationships of the SBIC and helps SBA to evaluate the SBIC's financial condition and compliance with applicable laws and regulations.

Title: “Disclosure Statement, Leveraged Licensees & Disclosure Statement, Non-Leveraged Licensees”.

Description of Respondents: Small Business Investment Companies.

Form Numbers: 856, 856A.

Annual Responses: 400.

Annual Burden: 400.

Jacqueline White,
Chief, Administrative Information Branch.

[FR Doc. 2011-31804 Filed 12-9-11; 8:45 am]

BILLING CODE P